DEPARTMENT OF THE TREASURY

Office of the Comptroller of the Currency

[Docket No. 04-22]

FEDERAL RESERVE SYSTEM

[Docket No. OP-1215]

FEDERAL DEPOSIT INSURANCE CORPORATION

DEPARTMENT OF THE TREASURY

Office of Thrift Supervision

[No. 2004-48]

Internal Ratings-Based Systems for Retail Credit Risk for Regulatory Capital

Correction

In notice document 04-23771 beginning on page 62748 in the issue of Wednesday, October 27, 2004 make the following correction:

On page 62753, in the second column, after item 15, the equation should read as follows:

[FR Doc. C4-23771 Filed 1-3-05; 8:45 am]

BILLING CODE 1505-01-D